DEPARTMENT OF DEFENSE

Office of the Secretary

[Docket ID DOD-2011-OS-0089]

Privacy Act of 1974; System of Records

AGENCY: Office of the Secretary, Department of Defense.

ACTION: Notice to alter a system of records.

SUMMARY: The Office of the Secretary of Defense proposes to alter a system of records in its inventory of record systems subject to the Privacy Act of 1974 (5 U.S.C. 552a), as amended.

DATES: This proposed action would be effective without further notice on September 9, 2011 unless comments are received which result in a contrary determination.

ADDRESSES: You may submit comments, identified by docket number and title, by any of the following methods:

• Federal Rulemaking Portal: http://www.regulations.gov. Follow the instructions for submitting comments.

• Mail: Federal Docket Management System Office, 1160 Defense Pentagon, Washington, DC 20301-1160.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Cindy Allard, Chief, OSD/JS Privacy Office, Freedom of Information Directorate, Washington Headquarters Services, 1155 Defense Pentagon, Washington, DC 20301-1155, or by phone at (703) 588-6830.

SUPPLEMENTARY INFORMATION: The Office of the Secretary of Defense notices for systems of records subject to the Privacy Act of 1974 (5 U.S.C. 552a), as amended, have been published in the Federal Register and are available from the address in FOR FURTHER INFORMATION CONTACT.

The proposed system report, as required by 5 U.S.C. 552a(r) of the Privacy Act of 1974, as amended, was submitted on August 5, 2011, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: August 5, 2011.
Aaron Siegel,
Alternate OSD Federal Register Liaison Officer, Department of Defense.

DHA 14

System name:

Computer/Electronics Accommodations Program for People with Disabilities (June 21, 2006, 71 FR 35632).

Changes:

* * * * *

System name:

Delete entry and replace with “Computer/Electronic Accommodations Program.”

System location:

Delete entry and replace with “Computer/Electronic Accommodations Program, Skyline 5, Suite 302, 5111 Leesburg Pike, Falls Church, VA 22041-3891.”

Categories of individuals covered by the system:

Delete entry and replace with “All Federal employees and members of the Armed Forces with disabilities that can be addressed with assistive technology solutions.”

Categories of records in the system:

Delete entry and replace with “Information includes employee name, grade level, occupational series, prior assistive technology solutions provided to the individual, work email, work address, work telephone number, Federal Agency, computer/electronic accommodations program request number, disability data, history of accommodations being sought and their disposition, and other documentation used in support of the request for an assistive technology solution. Product and vendor contact information includes orders, invoices, declination, and cancellation data for the product and identification of vendors, vendor products used, and product costs.”

Authority for maintenance of the system:

Delete entry and replace with “10 U.S.C. 1582, Assistive technology, assistive technology devices, and assistive technology services; 29 U.S.C. 794d, Electronic and information technology; 42 U.S.C. Chapter 126, Equal Opportunity For Individuals With Disabilities; and DoD Instruction 6025.22, Assistive Technology (AT) for Wounded Service Members.”

Purpose(s):

Delete entry and replace with “To administer the Computer/Electronic Accommodations Program, a centrally funded program that provides assistive (computer/electronic) technology solutions to individuals with hearing, visual, dexterity, cognitive, and/or communications impairments in the form of an accessible work environment. The system documents and tracks provided computer/electronic accommodations. May also be used as a management tool for statistical analysis, tracking, reporting, evaluating program effectiveness and conducting research.”

* * * * *

Policies and practices for storing, retrieving, accessing, retaining, and disposing of records in the system:

Storage:

Delete entry and replace with “Paper file folders and electronic storage media.”

Retrievability:

Delete entry and replace with “Records are retrieved by employee name, Federal Agency, computer/electronic accommodations program request number, work address, work telephone number.”

Safeguards:

Delete entry and replace with “Records are maintained in controlled areas accessible only to authorized DoD personnel. Access to personal information is further restricted by the use of Common Access Card and user ID/passwords. Paper records are maintained in a controlled facility where physical entry is restricted by the use of locks, guards, or administrative procedures. All records are maintained by the DoD.”

Retention and disposal:

Delete entry and replace with “Case files are destroyed three (3) years after employee separation from the agency or all appeals are concluded, whichever is later.”

System manager(s) and address:

Delete entry and replace with “Senior Program Manager, Computer/Electronic Accommodations Program, Skyline 5, Suite 810, 5111 Leesburg Pike, Falls Church, VA 22041-3891.”

Notification procedure:

Delete entry and replace with “Individuals seeking access to information about themselves contained in this system of records should address written inquiries to TRICARE Management Activity, Department of Defense, ATTN: TMA Privacy Officer, Skyline 5, Suite 810, 5111 Leesburg Pike, Falls Church, VA 22041-3206.

Request should contain name, work address, work telephone number, and type of disability.”

Record access procedures:

Delete entry and replace with “Individuals seeking access to records about themselves contained in this system should address written inquiries to TRICARE Management Activity, Attention: Freedom of Information Act Requester Service Center, 16401 East Centretech Parkway, Aurora, CO 80011-9066.

Request should contain full name, Federal Agency, computer/electronic accommodations request number, work address, work telephone number, the name and number of this system of records notice, and be signed.”

Contesting record procedures:

The OSD rules for accessing records, for contesting contents, and appealing initial agency determinations are published in OSD Administrative Instruction 81; 32 CFR Part 311, or may be obtained from the system manager.

Record source categories:

Delete entry and replace with “Information provided by the individual and human resources databases maintained by DoD and the Federal Government agencies participating in the Computer/Electronic Accommodations Program.”

* * * * *

DHA 14

System name:

Computer/Electronic Accommodations Program.

System location:

Computer/Electronic Accommodations Program, Skyline 5, Suite 302, 5111 Leesburg Pike, Falls Church, VA 22041-3891.

Categories of individuals covered by the system:

All Federal employees and members of the Armed Forces with disabilities that can be addressed with assistive technology solutions.

Categories of records in the system:

Information includes employee name, grade level, occupational series, prior assistive technology solutions provided to the individual, work email, work address, work telephone number, Federal Agency, computer/electronic accommodations program request number, disability data, history of accommodations being sought and their disposition, and other documentation used in support of the request for an assistive technology solution. Product and vendor contact information includes orders, invoices, declination, and cancellation data for the product and identification of vendors, vendor products used, and product costs.

Authority for maintenance of the system:

10 U.S.C. 1582, Assistive technology, assistive technology devices, and assistive technology services; 29 U.S.C. 794d, Electronic and information technology; 42 U.S.C. Chapter 126, Equal Opportunity For Individuals With Disabilities; and DoD Instruction 6025.22, Assistive Technology (AT) for Wounded Service Members.

Purpose(s):

To administer the Computer/Electronic Accommodations Program, a centrally funded program that provides assistive (computer/electronic) technology solutions to individuals with hearing, visual, dexterity, cognitive, and/or communications impairments in the form of an accessible work environment. The system documents and tracks provided computer/electronic accommodations. May also be used as a management tool for statistical analysis, tracking, reporting, evaluating program effectiveness and conducting research.

Routine uses of records maintained in the system, including categories of users and the purposes of such uses:

In addition to those disclosures generally permitted under 5 U.S.C. 552a(b) of the Privacy Act of 1974, as amended, these records may specifically be disclosed outside the DoD as a routine use pursuant to 5 U.S.C. 552a(b)(3) as follows:

To Federal Government agencies participating in the Computer/Electronic Accommodations Program for purposes of providing information as necessary to permit the agency to carry out its responsibilities under the program.

To commercial vendors for purposes of providing information to permit the vendor to identify and provide assistive technology solutions for individuals with disabilities.

The DoD `Blanket Routine Uses' set forth at the beginning of the Office of the Secretary of Defense (OSD) compilation of systems of records notices apply to this system.

Policies and practices for storing, retrieving, accessing, retaining, and disposing of records in the system:

Storage:

Paper file folders and electronic storage media.

Retrievability:

Records are retrieved by employee name, Federal Agency, computer/electronic accommodations program request number, work address, work telephone number.

Safeguards:

Records are maintained in controlled areas accessible only to authorized DoD personnel. Access to personal information is further restricted by the use of Common Access Card and user ID/passwords. Paper records are maintained in a controlled facility where physical entry is restricted by the use of locks, guards, or administrative procedures. All records are maintained by the DoD.

Retention and disposal:

Case files are destroyed three (3) years after employee separation from the agency or all appeals are concluded, whichever is later.

System manager(s) and address:

Senior Program Manager, Computer/Electronic Accommodations Program, Skyline 5, Suite 810, 5111 Leesburg Pike, Falls Church, VA 22041-3891.

Notification procedure:

Individuals seeking access to information about themselves contained in this system of records should address written inquiries to TRICARE Management Activity, Department of Defense, ATTN: TMA Privacy Officer, Skyline 5, Suite 810, 5111 Leesburg Pike, Falls Church, VA 22041-3206.

Request should contain name, work address, work telephone number, and type of disability.

Record access procedures:

Individuals seeking access to records about themselves contained in this system should address written inquiries to TRICARE Management Activity, Attention: Freedom of Information Act Requester Service Center, 16401 East Centretech Parkway, Aurora, CO 80011-9066.

Request should contain full name, Federal Agency, computer/electronic accommodations request number, work address, work telephone number, the name and number of this system of records notice, and be signed.

Contesting record procedures:

The OSD rules for accessing records, for contesting contents, and appealing initial agency determinations are published in OSD Administrative Instruction 81; 32 CFR Part 311, or may be obtained from the system manager.

Record source categories:

Information provided by the individual and human resources databases maintained by DoD and the Federal Government agencies participating in the Computer/Electronic Accommodations Program.

Exemptions claimed for the system:

None.

[FR Doc. 2011-20345 Filed 8-10-11; 8:45 am]

BILLING CODE 5001-06-P